DEPARTMENT OF ENERGY

Federal Energy Regulatory Commission

[Docket No. IC19-3-000]

Commission Information Collection Activities (FERC-546); Consolidated Comment Request; Extension

AGENCY: Federal Energy Regulatory Commission, Department of Energy.

ACTION: Comment request.

SUMMARY: In compliance with the requirements of the Paperwork Reduction Act of 1995, the Federal Energy Regulatory Commission (Commission or FERC) is submitting its information collection FERC-546 (Certificated Rate Filings: Gas Pipeline Rates) to the Office of Management and Budget (OMB) for review of the information collection requirements. Any interested person may file comments directly with OMB and should address a copy of those comments to the Commission as explained below. The Commission previously published a Notice in the Federal Register on 11/2/2018, requesting public comments. The Commission received no comments on the FERC-546 and will make this notation in its submittal to OMB.

DATES: Comments on the collection of information are due by March 18, 2019.

ADDRESSES: Comments filed with OMB, identified by the OMB Control No. 1902-0155 (FERC-546), should be sent via email to the Office of Information and Regulatory Affairs: oira_submission@omb.gov. Attention: Federal Energy Regulatory Commission Desk Officer. The Desk Officer may also be reached via telephone at 202-395-8528.

A copy of the comments should also be sent to the Commission, in Docket No. IC19-3-000, by either of the following methods:

• eFiling at Commission's Website: http://www.ferc.gov/docs-filing/efiling.asp.

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION: Title: FERC-546, Certificated Rate Filings: Gas Pipeline Rates.

OMB Control No.: 1902-0155.

Type of Request: Three-year extension of the FERC-546 information collection requirements with no changes to the current reporting requirements.

Abstract: The requirements of the FERC-546 information collection are contained within the Commission's regulations in 18 CFR parts 154.7, 154.202, 154.204-154.208, 154.602-154.603, 284.501-284.505, and 154.4. The Commission reviews the FERC-546 materials to decide whether to approve rates and tariff changes associated with an application for a certificate under Natural Gas Act (NGA) section 7(c). Additionally, FERC reviews FERC-546 materials in NGA section 4(f), storage applications, to evaluate an applicant's market power and determine whether to grant market-based rate authority to the applicant. The Commission uses the information in FERC-546 to monitor jurisdictional transportation, natural gas storage, and unbundled sales activities of interstate natural gas pipelines and Hinshaw ¹ pipelines. In addition to fulfilling the Commission's obligations under the NGA, the FERC-546 enables the Commission to monitor the activities and evaluate transactions of the natural gas industry, ensure competitiveness, and improve efficiency of the industry's operations. In summary, the Commission uses the information to:

¹ Hinshaw pipelines are those that receive all out-of-state gas from entities within or at the boundary of a state if all the natural gas so received is ultimately consumed within the state in which it is received, 15 U.S.C. 717(c). Congress concluded that Hinshaw pipelines are “matters primarily of local concern,” and so are more appropriately regulated by pertinent state agencies rather than by FERC. The Natural Gas Act section 1(c) exempts Hinshaw pipelines from FERC jurisdiction. A Hinshaw pipeline, however, may apply for a FERC certificate to transport gas outside of state lines.

• Ensure adequate customer protections under NGA section 4(f);

• review rate and tariff changes filed under NGA section 7(c) for certification of natural gas pipeline transportation and storage services;

• provide general industry oversight; and

• supplement documentation during the pipeline audits process.

Failure to collect this information would prevent the Commission from monitoring and evaluating transactions and operations of jurisdictional pipelines and performing its regulatory functions.

Type of Respondents: Jurisdictional pipeline companies and storage operators.

Estimate of Annual Burden: ² The Commission estimates the annual public reporting burden for the information collection as:

² “Burden” is defined as the total time, effort, or financial resources expended by persons to generate, maintain, retain, or disclose or provide information to or for a Federal agency. For further explanation of what is included in the information collection burden, reference 5 Code of Federal Regulations 1320.3.

FERC-546 (Certificated Rate Filings: Gas Pipeline Rates)
| Annual number of respondents | Annual number of responsesper respondent | Total number of responses (rounded) | Average burden and cost per response ³ (rounded) | Total annual burden hours and total annual cost (rounded) | Cost per respondent ($) (rounded)
| (1) | (2) | (1) * (2) = (3) | (4) | (3) * (4) = (5) | (5) ÷ (1)
Pipeline Certificate Filings and Storage Applications | 51 | ⁴ 1.471 | 75 | 500 hrs.; $40,000 | 37,500 hrs.; $3,000,000 | ⁵ $58,824

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ The hourly cost (for salary plus benefits) uses the figures from the Bureau of Labor Statistics, May 2017, for positions involved in the reporting and recordkeeping requirements. These figures include salary (https://www.bls.gov/oes/current/naics2_22.htm) and benefits (http://www.bls.gov/news.release/ecec.nr0.htm) and are:

Electrical Engineer (Occupation Code: 17-2071; $66.90/hour)

Management Analyst (Occupation Code: 13-1111; $63.32/hour)

Accounting (Occupation Code: 13-2011; $56.59/hours)

Computer and Mathematical (Occupation Code: 15-0000; $63.25/hour)

Legal (Occupation Code: 23-0000; $143.68/hour)

The average hourly cost (salary plus benefits) is calculated weighting each of the previously mentioned wage categories as follows: $66.90/hour (0.4) + $63.32/hour (0.2) + $56.59/hour (0.1) + $63.25/hour (0.1) + $143.68/hour (0.2) = $80.14/hour. The Commission rounds this figure to $80/hour.

⁴ This figure was calculated by dividing the total number of responses (75) by the total number of respondents (51). The resulting figure was then rounded to the nearest thousandth place.

⁵ Rounded from $58,823.53.

Dated: February 8, 2019.
Kimberly D. Bose,
Secretary.

[FR Doc. 2019-02332 Filed 2-13-19; 8:45 am]

BILLING CODE 6717-01-P